DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (OFAC) is publishing the names of one individual and one entity whose property and interests in property have been blocked pursuant to the Foreign Narcotics Kingpin Designation Act (Kingpin Act) (21 U.S.C. 1901-1908, 8 U.S.C. 1182).

DATES: The designation by the Acting Director of OFAC of the individual and entity identified in this notice pursuant to section 805(b) of the Kingpin Act is effective on October 15, 2015.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security, may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On October 15, 2015, the Acting Director of OFAC designated the following individual and entity whose property and interests in property are blocked pursuant to section 805(b) of the Kingpin Act.

Individual

PENG, Bo (a.k.a. “PENG, Kevin”); DOB 06 Dec 1983; POB Jiangsu, China; citizen China; Email Address kevinpengtech@gmail.com; alt. Email Address kevin.pengchem@gmail.com; alt. Email Address kevin.polymer@gmail.com; alt. Email Address pengbochem@hotmail.com; Gender Male; Passport G34331983 (China) issued 13 Mar 2009 expires 12 Mar 2019; National ID No. 320106198312060411 (China); alt. National ID No. 32010619312060000 (China) (individual) [SDNTK] (Linked To: KAIKAI TECHNOLOGY CO., LTD.). Designated for playing a significant role in international narcotics trafficking, and therefore meets the statutory criteria for designation pursuant to section 805(b)(4) of the Kingpin Act, 21 U.S.C. 1904(b)(4).

Entity

KAIKAI TECHNOLOGY CO., LTD. (a.k.a. EASTNINE CHEMICALS CO., LTD.; f.k.a. EASTNINE INTERNATIONAL TRADING CO., LTD.; a.k.a. NANJING KAIKAI POLYURETHANE CO., LTD.; a.k.a. NANJING KAIKAI TECHNOLOGY CO., LTD.), No. 3 Fangcao Garden, Longjiang District, Nanjing, Jiangsu 210038, China; Des Voeux Road, Hong Kong; No. 2, Zhongxin Group, Yanshanhe Village, Yangmiao Town, Yangzhou, Jiangsu 210038, China; Goldencard Building, No. 83 Suojing Road, Nanjing, Jiangsu 210000, China; 334 Te Atatu Road, Te Atatu South, Auckland, New Zealand; Web site http://www.kk-pu.com; Email Address info@kk-pu.com; alt. Email Address kaikaitech@gmail.com; alt. Email Address kktech12345@gmail.com; Business Registration Document #9429033056678 (New Zealand) [SDNTK]. Designated for being controlled or directed by, or acting for or on behalf of, Bo Peng, and for playing a significant role in international narcotics trafficking, and therefore meets the statutory criteria for designation pursuant to sections 805(b)(3) and (4) of the Kingpin Act, 21 U.S.C. 1904(b)(3) and (4).

Dated: October 15, 2015.
John E. Smith,
Acting Director, Office of Foreign Assets Control.

[FR Doc. 2015-26696 Filed 10-20-15; 8:45 am]

BILLING CODE 4810-AL-P